DEPARTMENT OF TRANSPORTATION

National Highway Traffic Safety Administration

[Docket No. NHTSA-2012-0041; Notice 1]

Hyundai Motor Company, Receipt of Petition for Decision of Inconsequential Noncompliance

AGENCY: National Highway Traffic Safety Administration, DOT.

ACTION: Receipt of petition.

SUMMARY: Hyundai America Technical Center, Inc., on behalf of Hyundai Motor Company (collectively referred to as “Hyundai”) ¹ has determined that certain model year 2011 and 2012 Hyundai Sonata Hybrid passenger cars, do not fully comply with paragraph S4.1.5.5.2 of Federal Motor Vehicle Safety Standard (FMVSS) No. 208, Occupant Crash Protection. Hyundai has filed an appropriate report dated March 8, 2012, pursuant to 49 CFR part 573, Defect and Noncompliance Responsibility and Reports.

¹ Hyundai America Technical Center, Inc., is a corporation registered under the laws of the state of Michigan.

Pursuant to 49 U.S.C. 30118(d) and 30120(h) (see implementing rule at 49 CFR part 556), Hyundai submitted a petition for an exemption from the notification and remedy requirements of 49 U.S.C. Chapter 301 on the basis that this noncompliance is inconsequential to motor vehicle safety.

This notice of receipt of Hyundai's petition is published under 49 U.S.C. 30118 and 30120 and does not represent any agency decision or other exercise of judgment concerning the merits of the petition.

Vehicles involved: Affected are approximately 14,728 model year 2011 and 2012 Hyundai Sonata Hybrid vehicles produced beginning on December 2, 2010 and shipped to dealers through March 7, 2012 that are equipped with a center rear seat belt incorporating a release mechanism that detaches both the lap and shoulder portion at the lower anchorage point.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, these provisions only apply to the subject 14,728 ² vehicles that Hyundai no longer controlled at the time it determined that the noncompliance existed.

² Hyundai's petition, which was filed under 49 CFR part 556, requests an agency decision to exempt Hyundai as a motor vehicles manufacturer from the notification and recall responsibilities of 49 CFR part 573 for the 14,728 affected vehicles. However, a decision on this petition will not relieve vehicle distributors and dealers of the prohibitions on the sale, offer for sale, introduction or delivery for introduction into interstate commerce of the noncompliant motor vehicles under their control after Hyundai notified them that the subject noncompliance existed.

Noncompliance: Hyundai explains that the noncompliance is that the affected vehicles do not comply with Paragraph S4.1.5.5.2 because they are equipped with a non-folding rear seat back and a center rear seat belt incorporating a release mechanism that detaches both the lap and shoulder portion at the lower anchorage point to allow improved assembly line procedures.

Rule text: Paragraph S4.1.5.5 of FMVSS No. 208 requires in pertinent part:

S4.1.5.5 Passenger cars manufactured on or after September 1, 2007.

S4.1.5.5.1 Except as provided in S4.1.5.5.2, each passenger car shall have a Type 2 seat belt assembly that conforms to Standard No. 209 and to S7.1 and S7.2 of this standard at each rear designated seating position, except that side-facing designated seating positions shall have a Type 1 or Type 2 seat belt assembly that conforms to Standard No. 209 and to S7.1 and S7.2 of this standard.

S4.1.5.5.2 Any inboard designated seating position on a seat for which the entire seat back can be folded (including the head restraints and any other part of the vehicle attached to the seat back) such that no part of the seat back extends above a horizontal plane located 250 mm above the highest SRP located on the seat may meet the requirements of S4.1.5.5.1 by use of a belt incorporating a release mechanism that detaches both the lap and shoulder portion at either the upper or lower anchorage point, but not both. The means of detachment shall be a key or key-like object.

Summary of Hyundai's Analysis and Arguments

Hyundai believes that the installation of a center rear seat belt incorporating a release mechanism that detaches both the lap and shoulder portion at the lower anchorage point in a vehicle with a nonfolding rear seat back is inconsequential as it relates to motor vehicle safety. The seat belt assembly complies with FMVSS No. 208 requirements and with FMVSS No. 209 requirements, with the sole exception that it may be detached from the lower anchorage by use of a tool, such as a key or key-like object. If the rear seat back of the Sonata Hybrid vehicle was simply capable of being folded, which would have no effect upon seat belt performance, this detachable aspect would not result in a compliance issue.

Hyundai also stated its belief that it is clear from the intended difficulty in detaching the seat belt and the instructions contained in the vehicle owner's manual that the seat belt should not be detached. Further, in the Sonata Hybrid with a fixed rear seat back, there is no advantage or reason for the owner to detach the center rear seat belt from the lower anchorage.

Hyundai has additionally informed NHTSA that it has corrected the noncompliance so that all future production vehicles will comply with FMVSS No. 208.

With consideration of the above information, Hyundai Motor Company does not believe that it is appropriate to conduct a recall campaign to replace the center rear seat belts in vehicles that have been delivered to customers.

In summation, Hyundai believes that the described noncompliance of its vehicles is inconsequential to motor vehicle safety, and that its petition, to exempt from providing recall notification of noncompliance as required by 49 U.S.C. 30118 and remedying the recall noncompliance as required by 49 U.S.C. 30120 should be granted.

Comments: Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue SE., Washington, DC 20590.

b. By hand delivery to U.S. Department of Transportation, Docket Operations, M-30, West Building Ground Floor, Room W12-140, 1200 New Jersey Avenue SE., Washington, DC 20590. The Docket Section is open on weekdays from 10 a.m. to 5 p.m. except Federal Holidays.

c. Electronically: by logging onto the Federal Docket Management System (FDMS) Web site at http://www.regulations.gov/. Follow the online instructions for submitting comments. Comments may also be faxed to 1-202-493-2251.

Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided.

Documents submitted to a docket may be viewed by anyone at the address and times given above. The documents may also be viewed on the Internet at http://www.regulations.gov by following the online instructions for accessing the dockets. DOT's complete Privacy Act Statement is available for review in the Federal Register published on April 11, 2000, (65 FR 19477-78).

The petition, supporting materials, and all comments received before the close of business on the closing date indicated below will be filed and will be considered. All comments and supporting materials received after the closing date will also be filed and will be considered to the extent possible. When the petition is granted or denied, notice of the decision will be published in the Federal Register pursuant to the authority indicated below.

Comment Closing Date: May 14, 2012.

Authority: 49 U.S.C. 30118, 30120: delegations of authority at CFR 1.50 and 501.8.

Issued on: April 9, 2012.
Claude H. Harris,
Director, Office of Vehicle Safety Compliance.

[FR Doc. 2012-8895 Filed 4-12-12; 8:45 am]

BILLING CODE 4910-59-P